Title 3—

The President

Presidential Determination No. 2001-28 of September 22, 2001

Waiver of Nuclear-Related Sanctions on India and Pakistan

Memorandum for the Secretary of State

Pursuant to section 9001(b) of the Department of Defense Appropriations Act, 2000 (Public Law 106-79), I hereby determine and certify to the Congress that the application to India and Pakistan of the sanctions and prohibitions contained in subparagraphs (B), (C), and (G) of section 102(b)(2) of the Arms Export Control Act would not be in the national security interests of the United States. Furthermore, pursuant to section 9001(a) of the Department of Defense Appropriations Act, 2000 (Public Law 106-79), I hereby waive, with respect to India and Pakistan, to the extent not already waived, the application of any sanction contained in section 101 or 102 of the Arms Export Control Act, section 2(b)(4) of the Export Import Bank Act of 1945, and section 620E(e) of the Foreign Assistance Act of 1961, as amended.

You are authorized and directed to transmit this determination and certification to the appropriate committees of the Congress and to arrange for its publication in the Federal Register.

B

THE WHITE HOUSE,

Washington, September 22, 2001.

[FR Doc. 01-24721

Filed 10-1-01; 8:45 am]

Billing code 4710-10-M